DEPARTMENT OF COMMERCE

International Trade Administration

(A-351-809, A-201-805, A-580-809, A-533-502, A-549-502, A-489-501, C-489-502)

Continuation of Antidumping Duty Orders on Circular Welded Non-Alloy Pipes and Tubes from Brazil, Mexico, Republic of Korea, Antidumping Duty Orders on Welded Carbon Steel Pipe from India, Thailand and Turkey, and Countervailing Duty Order on Welded Carbon Steel Standard Pipe from Turkey

AGENCY: Import Administration, International Trade Administration, Department of Commerce.

SUMMARY: As a result of the determinations by the Department of Commerce (the Department) and the International Trade Commission (ITC) that revocation of the antidumping duty orders on circular welded non-alloy pipe and tube from Brazil, Mexico, and Republic of Korea (Korea), and antidumping duty orders on welded carbon steel pipe from India, Thailand and Turkey, and countervailing duty order on welded carbon steel standard pipe from Turkey, would likely lead to continuation or recurrence of dumping and countervailable subsidies, and material injury to an industry in the United States, the Department is publishing notice of continuation of these antidumping and countervailing duty orders.

EFFECTIVE DATE: August 8, 2006.

CONTACT INFORMATION: Martha Douthit or Dana Mermelstein, AD/CVD Operations, Office 6, Import Administration, International Trade Administration, U.S. Department of Commerce, 14th Street and Constitution Avenue, NW., Washington, DC 20230; telephone:(202) 482-5050 or (202) 482-1391, respectively.

SUPPLEMENTARY INFORMATION:

Scope of the Orders

Certain Circular Welded Non-Alloy Pipe and Tube from Brazil, Mexico and Korea - (A-351-809)(A-201-805)(A-580-809)

The products covered by these orders are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders.

All carbon steel pipes and tubes within the physical description outlined above are included within the scope of these orders, except line pipe, oil country tubular goods, boiler tubing, mechanical tubing, pipe and tube hollows for redraws, finished scaffolding, and finished conduit.

Standard pipe that is dual or triple certified/stenciled that enters the United States as line pipe of a kind used for oil or gas pipelines is also not included in this order. Imports of the products covered by these orders are currently classifiable under the following Harmonized Tariff Schedule of the United States (HTSUS) subheadings: 7306.30.10.00, 7306.30.50.25, 7306.30.50.32, 7306.30.50.40, 7306.30.50.55, 7306.30.50.85, and 7306.30.50.90.

Although the HTSUS subheadings are provided for convenience and customs purposes, our written description of the scope of these proceedings is dispositive.

Certain Welded Carbon Steel Standard Pipe and Tube from India, Thailand and Turkey - (A-533-502)(A-549-502)(A-489-501)

The products covered by these orders include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells. The scope is not limited to standard pipe and fence tubing, or those types of mechanical and structural pipe that are used in standard pipe applications. All carbon steel pipes and tubes within the physical description outlined above are included in the scope of these orders, except for line pipe, oil country tubular goods, boiler tubing, cold-drawn or cold-rolled mechanical tubing, pipe and tube hollows for redraws, finished

scaffolding, and finished rigid conduit. Imports of these products are currently classifiable under the following HTSUS subheadings: 7306.30.10.00, 7306.30.50.25, 7306.30.50.32, 7306.30.50.40, 7306.30.50.55, 7306.30.50.85, and 7306.30.50.90. Although the HTSUS subheadings are provided for convenience and customs purposes, our written description of the scope of these proceedings are dispositive.

Certain Welded Carbon Steel Pipe and Tube from Turkey - (C-489-502)

The merchandise subject to this countervailing duty order is certain welded carbon steel pipe and tube with an outside diameter of 0.375 inch or more, but not over 16 inches, of any wall thickness (“pipe and tube”). These products are currently provided for under the HTSUS as item numbers 7306.30.10, 7306.30.50, and 7306.90.10. Although the HTSUS subheadings are provided for convenience and customs purposes, the written description of the merchandise subject to this order is dispositive.

Background

On July 5, 2005, the Department initiated and the ITC instituted sunset reviews of the antidumping duty orders on circular welded non-alloy pipe and tube from Brazil, Mexico, and Korea, antidumping duty orders on welded carbon steel pipe from India, Thailand and Turkey, and countervailing duty order on welded carbon steel standard pipe from Turkey, pursuant to section 751(c) of the Tariff Act of 1930, as amended (“the Act”). See Initiation of Five-Year (“Sunset”) Reviews; 70 FR 38101 (July 1, 2005), and ITC notice of institution on Certain Pipe and Tube From Argentina, Brazil, India, Korea, Mexico, Taiwan, Thailand, and Turkey; 70 FR 38204 (July 1, 2005)

As a result of its review, the Department found that revocation of the antidumping and countervailing duty orders would likely lead to continuation or recurrence of dumping and countervailable subsidies, and notified the ITC of the magnitude of the margins and the net countervailable subsidies likely to prevail were the orders to be revoked. See Certain Circular Welded Carbon Steel Pipes and Tubes from India, Taiwan, Thailand, and Turkey, and Circular Welded Non-Alloy Steel Pipe from Brazil, Republic of Korea, Mexico, and Taiwan; Notice of Final Results of Expedited Five-Year (“Sunset”) Reviews of Antidumping Duty Orders; 70 FR 67662 (November 8, 2005), and Final Results of Expedited Sunset Review: Welded Carbon Steel Standard Pipe from Turkey; 70 FR 62097 (October 28, 2005).

On July 25, 2006, the ITC determined, pursuant to section 751(c) of the Act, that revocation of the antidumping duty orders on circular welded non-alloy pipe and tube from Brazil, Mexico, Korea, the antidumping duty orders on welded carbon steel pipe from India, Thailand and Turkey, and the countervailing duty order on welded carbon steel standard pipe from Turkey, would likely lead to continuation or recurrence of material injury to an industry in the United States within a reasonably foreseeable time. See Certain Pipe and Tube from Argentina, Brazil, India, Korea, Mexico, Taiwan, Thailand, and Turkey; 71 FR 42118 (July 25, 2006), and USITC Publication 3867 (July 2006), (Inv. Nos. 701-TA-253 and 731-TA-132, 252, 271, 409-410, 532-534, and 536) (Second Review)).

As a result of the determinations by the Department and the ITC that revocation of these antidumping and countervailing duty orders would likely lead to continuation or recurrence of dumping and countervailable subsidies, and material injury to an industry in the United States, pursuant to section 751(d)(2) of the Act, the Department hereby orders the continuation of the antidumping duty orders on circular welded non-alloy pipes and tubes from Brazil, Mexico, and Korea, the antidumping duty orders on welded carbon steel pipes from India, Thailand and Turkey, and the countervailing duty order on welded carbon steels standard pipes from Turkey.

U.S. Customs and Border Protection (CBP) will continue to collect antidumping and countervailing duty cash deposits at the rates in effect at the time of entry for all imports of subject merchandise.

The effective date of continuation of these orders will be the date of publication in the Federal Register of this Notice of Continuation. Pursuant to sections 751(c)(2) and 751(c)(6)(A) of the Act, the Department intends to initiate the next five-year reviews of these orders not later than July 2011.

These five-year (sunset) reviews and notice are in accordance with section 751(c) of the Act and published pursuant to section 777(i)(1) of the Act.

Dated: July 31, 2006.
David M. Spooner,
Assistant Secretary for Import Administration.

[FR Doc. E6-12794 Filed 8-7-06; 8:45 am]

BILLING CODE 3510-DS-S